DEPARTMENT OF COMMERCE

National Oceanic and Atmospheric Administration

Federal Consistency Appeal by Villa Marina Yacht Harbour, Inc.

AGENCY: National Oceanic and Atmospheric Administration (NOAA), Department of Commerce (Commerce).

ACTION: Notice of stay—closure of administrative appeal decision record.

SUMMARY: This announcement provides notice that the Secretary of Commerce has stayed, for a period of 60 days, closure of the decision record in an administrative appeal filed by Villa Marina Yacht Harbour, Inc. (Villa Marina).

DATES: The decision record for the Villa Marina Federal Consistency Appeal will now close on April 2, 2010.

ADDRESSES: NOAA, Office of General Counsel for Ocean Services, 1305 East-West Highway, Room 6111, Silver Spring, MD 20910.

FOR FURTHER INFORMATION CONTACT: Gladys P. Miles, Attorney-Advisor, NOAA, Office of the General Counsel, 301-713-7384 or at gcos.inquiries@noaa.gov.

SUPPLEMENTARY INFORMATION: On July 24, 2009, Villa Marina filed a notice of an appeal with the Secretary of Commerce (Secretary), pursuant to the Coastal Zone Management Act of 1972 (CZMA), 16 U.S.C. 1451 et seq., and implementing regulations found at 15 CFR Part 930, Subpart H. The appeal is taken from an objection by Puerto Rico Planning Board (PRPB) to Villa Marina's consistency certification for a U.S. Army Corps of Engineers permit for a marina expansion in Fajardo, Puerto Rico. Notice of this appeal was published in the Federal Register on August 24, 2009. See 74 FR 42,650.

Under the CZMA, the Secretary must close the decision record in an appeal 160 days after the notice of appeal is published in the Federal Register. 16 U.S.C. 1465. The CZMA, however, authorizes the Secretary to stay closing of the decision record for up to 60 days when the Secretary determines it necessary to receive, on an expedited basis, any supplemental information specifically requested by the Secretary to complete consistency review. 16 U.S.C. 1465(b)(3).

The decision record currently is scheduled to close on February 1, 2010. After reviewing the decision record developed to date, the Secretary has requested supplemental and clarifying information. In order to allow receipt of this information, the Secretary hereby stays closure of the decision record until April 2, 2010.

Additional information on this appeal is available on the following Web site: http://www.ogc.doc.gov/czma.htm; and during business hours, at the NOAA, Office of General Counsel for Ocean Services.

Dated: January 25, 2010.
Joel La Bissonniere,
Assistant General Counsel for Ocean Services, NOAA.

[FR Doc. 2010-1802 Filed 1-28-10; 8:45 am]

BILLING CODE P